ENVIRONMENTAL PROTECTION AGENCY

[FRL-7843-8]

National Drinking Water Advisory Council's Water Security Working Group Meeting Announcement

AGENCY: Environmental Protection Agency.

ACTION: Notice.

SUMMARY: The Environmental Protection Agency (EPA) announces the third public meeting of the Water Security Working Group (WSWG) of the National Drinking Water Advisory Council (NDWAC), which was established under the Safe Drinking Water Act. The purpose of this meeting is to provide an opportunity for the WSWG members to continue deliberations on the features of active and effective security programs for drinking water and wastewater utilities (water sector), to continue deliberations on incentives to encourage broad adoption of active and effective security programs throughout the water sector, and to begin deliberations on mechanisms to measure the extent of implementation of water security programs. Final WSWG findings and recommendations will be provided to the NDWAC for their consideration. The WSWG anticipates providing findings and recommendations to the NDWAC in Spring 2005. Two additional meetings of the WSWG are planned and will be announced in the near future.

DATES: The WSWG meeting is December 15-17, 2004. On December 15, 2004, the meeting is scheduled from 12:30 p.m. to 6 p.m., eastern time (e.t.). On December 16, 2004, the meeting is scheduled from 8 a.m. to 5:30 p.m., e.t. On December 17, 2004, the meeting is schedule from 8 a.m. to 12 p.m., e.t.

ADDRESSES: The meeting will take place at the Radisson Barceló Hotel, Washington, 2121 P Street, NW., Washington, DC 20037. The telephone number for this hotel is (202) 293-3100.

FOR FURTHER INFORMATION CONTACT: Interested participants from the public should contact Marc Santora, Designated Federal Officer, U.S. Environmental Protection Agency, Office of Ground Water and Drinking Water, Water Security Division (Mail Code 4601-M), 1200 Pennsylvania Avenue, NW., Washington, DC, 20460. Please contact Marc Santora at santora.marc@epa.gov or call 202-564-1597 to receive additional details.

SUPPLEMENTARY INFORMATION:

Background

The WSWG mission is to: (1) Identify, compile, and characterize best security practices and policies for drinking water and wastewater utilities and provide an approach for considering and adopting these practices and policies at a utility level; (2) consider mechanisms to provide recognition and incentives that facilitate a broad and receptive response among the water sector to implement these best security practices and policies and make recommendations as appropriate; (3) consider mechanisms to measure the extent of implementation of these best security practices and policies, identify the impediments to their implementation, and make recommendations as appropriate. The Group is comprised of sixteen members from water and wastewater utilities, public health, academia, state regulators, and environmental and community interests. It is supported by technical experts from the Environmental Protection Agency, the Department of Homeland Security, the Centers for Disease Control and Prevention, and the Department of Defense.

Closed and Open Parts of the Meeting

The WSWG is a working group of the NDWAC; it is not a Federal advisory committee and therefore not subject to the same public disclosure laws that govern Federal advisory committees. The Group can enter into closed session as necessary to provide an opportunity to discuss security-sensitive information relating to specific water sector vulnerabilities and security tactics. Currently, the WSWG does not anticipate closing any parts of the December meeting to the public. However, the Group reserves the right to enter into closed session, if necessary, late in the afternoon of December 15, 2004, immediately before lunch on December 16, 2004, and late in the day on December 17, 2004. If closed sessions are needed, opportunities for public comment will be provided before the closed sessions begin.

If the there is a closed meeting session, only WSWG members, Federal resource personnel, facilitation support contractors and outside experts identified by the facilitation support contractors will attend the closed meeting. A general summary of the topics discussed during closed meetings and the individuals present will be included with the summary of the open portions of the WSWG meeting.

Public Comment

An opportunity for public comment will be provided during the open part of the WSWG meeting. Oral statements will be limited to five minutes, and it is preferred that only one person present the statement on behalf of a group or organization. Written comments may be provided at the meeting or may be sent, by mail, to Marc Santora, Designated Federal Officer for the WSWG, at the e-mail address listed in the FOR FURTHER INFORMATION CONTACT section of this notice.

Special Accommodations

Any person needing special accommodations at this meeting, including wheelchair access, should contact Marc Santora, Designated Federal Officer, at the number or e-mail address listed in the FOR FURTHER INFORMATION CONTACT section of this notice. Requests for special accommodations should be made at least five business days in advance of the WSWG meeting.

Dated: November 23, 2004.
Cynthia C. Dougherty,
Director, Office of Ground Water and Drinking Water.

[FR Doc. 04-26402 Filed 11-29-04; 8:45 am]

BILLING CODE 6560-50-P